FEDERAL FINANCIAL INSTITUTIONS EXAMINATION COUNCIL

[Docket No. AS18-08]

Appraisal Subcommittee Notice of Meeting

AGENCY: Appraisal Subcommittee of the Federal Financial Institutions Examination Council.

ACTION: Notice of Special Meeting.

Description: In accordance with Section 1104(b) of Title XI of the Financial Institutions Reform, Recovery, and Enforcement Act of 1989, as amended, notice is hereby given that the Appraisal Subcommittee (ASC) will meet in open session for a Special Meeting:

Location: Via teleconference.

Date: June 8, 2018.

Time: 10:00 a.m.

Status: Open.

Action and Discussion Item:

State Requests for Extension of Implementation Period to establish AMC Program

How to Attend and Observe this Special ASC meeting: If you would like to listen to this Meeting, we ask that you send an email to meetings@asc.gov by noon on June 7th and the dial-in information will be sent to you. The use of any audio tape recording device, or any other electronic or mechanical device designed for similar purposes is prohibited.

Dated: May 31, 2018.
James R. Park,
Executive Director.

[FR Doc. 2018-12052 Filed 6-4-18; 8:45 am]

BILLING CODE 6700-01-P